SURFACE TRANSPORTATION BOARD

[Docket No. EP 748]

Indexing the Annual Operating Revenues of Railroads

The Surface Transportation Board (Board) is publishing the annual deflator factor and inflation-adjusted railroad revenue thresholds for 2024. The deflator factor is used by the railroads to adjust their gross annual operating revenues for classification purposes. This indexing methodology ensures that railroads are classified based on real business expansion and not on the effects of inflation. Classification is important because it determines the extent to which individual railroads must comply with the Board's reporting requirements.

The Board's annual deflator factor is based on the annual average of the Producer Price Index (PPI) industry data for line-haul railroads published by the Bureau of Labor Statistics (BLS) and is used to deflate revenues for comparison with established revenue thresholds.

Application of the annual deflator factors for 2020-2024 results in the following annual revenue thresholds:

Railroad Revenue Thresholds ¹
Year | Factor | Class I | Class II
2020 ² | 1.0000 | 900,000,000 | 40,400,000
2021 | 0.9535 | 943,898,958 | 42,370,575
2022 | 0.8721 | 1,032,002,719 | 46,325,455
2023 | 0.8541 | 1,053,709,560 | 47,299,851
2024 | 0.8375 | 1,074,600,816 | 48,237,637

The annual inflation-adjusted deflator factor and revenue thresholds for 2024 are effective January 1, 2024. Notice of this decision will be published in the Federal Register.

¹ In Montana Rail Link, Inc., & Wisconsin Central Ltd., Joint Petition for Rulemaking with Respect to 49 CFR part 1201, 8 I.C.C.2d 625 (1992), the Board's predecessor, the Interstate Commerce Commission, raised the revenue classification level for Class I railroads from $50 million (1978 dollars) to $250 million (1991 dollars), effective for the reporting year beginning January 1, 1992. The Class II threshold was also raised from $10 million (1978 dollars) to $20 million (1991 dollars). In Montana Rail Link, Inc.—Petition for Rulemaking—Classification of Carriers, EP 763 (STB served Apr. 5, 2021), the revenue classification level for Class I railroads was raised from $250 million (1991 dollars) to $900 million (2019 dollars), and the Class II threshold was converted and rounded from $20 million (1991 dollars) to $40.4 million (2019 dollars), effective for the reporting year beginning January 1, 2020.

² The 2020 and subsequent values are based on the thresholds established in Docket No. EP 763, and the deflator factor is indexed with a base year of 2019. As the PPI industry index for Line-haul railroads remained the same from 2019 to 2020, the annual deflator factor for 2020 was 1.0000.

By the Board, Kristen Monaco, Ph.D., Director, Office of Economics.

Zantori Dickerson,
Clearance Clerk.

[FR Doc. 2025-11508 Filed 6-23-25; 8:45 am]

BILLING CODE 4915-01-P